DEPARTMENT OF VETERANS AFFAIRS

Veterans and Community Oversight and Engagement Board, Notice of Meeting

The Department of Veterans Affairs (VA) gives notice under the Federal Advisory Committee Act, 5 U.S.C. Ch. 10, that the Veterans and Community Oversight and Engagement Board will meet virtually on August 19, 2025. The meeting session will begin, and end as follows:

Date | Time
August 19, 2025 | 9:00 a.m. to 3:00 p.m. Pacific Standard Time (PST).

The meetings are open to the public and will be recorded.

The Board was established by the West Los Angeles Leasing Act of 2016 on September 29, 2016. The purpose of the Board is to provide advice and make recommendations to the Secretary of Veterans Affairs on: identifying the goals of the community and Veteran partnership; improving services and outcomes for Veterans, members of the Armed Forces, and the families of such Veterans and members; and on the implementation of the Draft Master Plan approved by the Secretary on January 28, 2016, and on the creation and implementation of any successor master plans.

On August 19, the agenda will include opening remarks from the Chief of Staff and the Executive Sponsor. There will be a general update from VA Greater Los Angeles Healthcare System (VAGLAHS). The West Los Angeles Veterans Collective will provide status briefing activities since December 2024. The Board's subcommittees on Services and Outcomes, and on Master Planning will report on activities since the last meeting and share any recommendations.

Time will be allocated for receiving public comments on August 19, at 1:35 p.m. to 2:35 p.m. PST. Individuals wishing to make public comments should contact Dedrick Waterford at Dedrick.Waterford@va.gov and are requested to submit a 1-2-page summary of their comments for inclusion in the official meeting record. Only those members of the public (first 12 public comment registrants) who have confirmed registrations to provide public comment will be allowed to provide public comment. Each speaker will be held to 5-minutes time limit. The Committee will accept written comments from interested parties on issues outlined in the meeting agenda, from August 1, 2025 to August 19, 2025.

Members of the public can attend the meeting via TEAMS by joining from the meeting link below.

Video: Copy and paste highlighted link below

https://teams.microsoft.com/l/meetup-join/19%3ameeting_YWRiOGQ2YzUtMGRhZi00OTI1LWJlOGMtMTYyNDBiMzY5N2M4%40thread.v2/0?context=%7b%22Tid%22%3a%22e95f1b23-abaf-45ee-821d-b7ab251ab3bf%22%2c%22Oid%22%3a%22d01b5948-f945-4fe7-932d-ff9f4b8e92da%22%7d

Meeting ID: 235 628 191 968 0

Passcode: Cr2iT7DW

Dial in by phone

+1 872-701-0185 Phone conference ID: 709 800 003#

Any member of the public seeking additional information should contact Chi Szeto at (562) 708-9959 or at Chihung.Szeto@va.gov.

Dated: July 17, 2025.
Jelessa M. Burney,
Federal Advisory Committee Management Officer.

[FR Doc. 2025-13668 Filed 7-18-25; 8:45 am]

BILLING CODE 8320-01-P